DEPARTMENT OF JUSTICE

Notice of Lodging of Consent Decree Under the Comprehensive Environmental Response, Compensation, and Liability Act (CERCLA)

Notice is hereby given that on December 15, 2008, a proposed Consent Decree in United States v. Ascension Holding Company, LLC, et al. Civil Action No. 3:08-cv-00815-JVP-SCR, was lodged with the United States District Court for the Middle District of Louisiana.

In this action, the United States sought injunctive relief and response costs under the Comprehensive Environmental Response, Compensation, and Liability Act, Sections 106 and 107(a), 42 U.S.C. 9606 and 9607, in connection with the release or threatened release of hazardous substances from the Dutchtown Oil Treatment Facility Superfund Site located in Dutchtown, Ascension Parish, Louisiana. The proposed Consent Decree would require settling defendants to reimburse the United States for $935,000 in past and future clean up costs at this Site, and would otherwise resolve their liability for allegations set forth in the underlying Complaint.

For a period of thirty (30) days from the date of this publication, the Department of Justice will receive comments relating to the proposed Consent Decree. Comments should be addressed to the Assistant Attorney General, Environment and Natural Resources Division, and either e-mailed to pubcomment-ees.enrd@usdoj.gov, or mailed to P.O. Box 7611, U.S. Department of Justice, Washington, DC 20044-7611. Comments should refer to United States v. Ascension Holding, LLC, D.J. Ref. # 90-11-2-428/1.

The proposed Consent Decree may be examined on the following Department of Justice Web site, http://www.usdoj.gov/enrd/Consent_Decrees.html. A copy of the proposed Consent Decree also may be obtained by mail from the Consent Decree Library, P.O. Box 7611, U.S. Department of Justice, Washington, DC 20044-7611, or by faxing or e-mailing a request to Tonia Fleetwood (tonia.fleetwood@usdoj.gov), fax no. (202) 514-0097, phone confirmation no. (202) 514-1547. In requesting a copy from the Consent Decree Library, please enclose a check in the amount of $3.75 (25 cents per page reproduction cost) for a copy exclusive of signature pages and appendices, or $4.50 (25 cents per page reproduction cost) for a copy including signature pages and appendices payable to the “U.S. Treasury” or, if by email or fax, forward a check in that amount to the Consent Decree Library at the stated address.

Maureen M. Katz,
Assistant Section Chief, Environmental Enforcement Section.

[FR Doc. E8-30306 Filed 12-19-08; 8:45 am]

BILLING CODE 4410-15-P